DEPARTMENT OF COMMERCE

Foreign-Trade Zones Board

[Order No. 1359]

Expansion of Foreign-Trade Zone 72; Indianapolis, IN

Pursuant to its authority under the Foreign-Trade Zones Act of June 18, 1934, as amended (19 U.S.C. 81a-81u), the Foreign-Trade Zones Board (the Board) adopts the following Order:

Whereas, the Indianapolis Airport Authority, grantee of Foreign-Trade Zone 72, submitted an application to the Board for authority to expand FTZ 72 to include four additional sites at locations in Madison, Marion and Hendricks Counties, Indiana, within the Indianapolis Customs port of entry (FTZ Docket 45-2003; filed 9/10/03);

Whereas, notice inviting public comment was given in the Federal Register (68 FR 54717, 9/18/03) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 72 is approved, subject to the Act and the Board's regulations, including Section 400.28, and further subject to the Board's standard 2,000-acre activation limit for the overall zone project.

Signed in Washington, DC, this 18th day of November, 2004.
James J. Jochum,
Assistant Secretary of Commerce for Import Administration, Alternate Chairman, Foreign-Trade Zones Board.

[FR Doc. 04-26563 Filed 12-1-04; 8:45 am]

BILLING CODE 3510-DS-P